SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Child Relationship Statement—0960-0116. The Social Security Administration (SSA) uses the information collected on Form SSA-2519 to help determine the entitlement of children to Social Security benefits under section 216(h)(3) of the Social Security Act (Deemed Child Provision). The respondents are persons providing information about the relationship between the worker and his/her alleged biological child, in connection with the child's application for benefits.

Number of Respondents: 50,000.

Frequency of Response: 1.

Average Burden Per Response: 15 minutes.

Estimated Annual Burden: 12,500 hours.

2. Request to Resolve Questionable Quarters of Coverage (QC); Request for QC History Based on Relationship—0960-0575. Form SSA-512 is used by the States to request clarification from SSA on questionable QCs information. The Personal Responsibility and Work Opportunity Reconciliation Act states that aliens admitted for lawful residence who have worked and earned 40 qualifying QCs for Social Security purposes can generally receive State benefits. Form SSA-513 is used by States to request QC information for an alien's spouse or child in cases where the alien does not sign a consent form giving permission to access his/her Social Security records. QCs can also be allocated to a spouse and/or to a child under age 18, if needed, to obtain 40 qualifying QCs for the alien. The respondents are State agencies, which require QC information in order to determine eligibility for benefits.

| SSA-512 | SSA-513
Number of Respondents | 200,000 | 350,000
Frequency of Response | 1 | 1
Average Burden Per Response (minute) | 2 | 2
Estimated Annual Burden (hours) | 6,667 | 11,667

II. The information collections listed below will be submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Employment Relationship Questionnaire—0960-0040. SSA uses the information collected on Form SSA-7160 to determine whether the numberholder is self-employed or an employee. The respondents are applicants for Social Security Benefits and/or employers.

Number of Respondents: 47,500.

Frequency of Response: 1.

Average Burden Per Response: 25 minutes.

Estimated Annual Burden: 19,792 hours.

2. On May 31, 2000, SSA announced its intention to competitively award cooperative agreements to establish community-based benefits planning, assistance and outreach (BPAO) projects. The overall goal of the projects is to disseminate accurate information to beneficiaries with disabilities (including transition-to-work aged youth) about work incentives programs and issues related to such programs, to enable them to make informed choices about work.

The BPAO project managers will collect data from Social Security Disability Insurance (SSDI) and Supplemental Security Income (SSI) beneficiaries who request BPAO services. The BPAO project managers and SSA will use the data to manage the projects and to determine what additional resources or other approaches may be needed to improve the process. The data is needed to determine the efficacy of the program and to ensure that those dollars appropriated for BPAO services are actually being used for SSA beneficiaries. The data will also be valuable to SSA in its analysis of and future planning for the SSDI and SSI programs.

BPAO projects will collect data on:

• Beneficiary background information;

• Beneficiary employment information;

• Beneficiary training information;

• Beneficiary benefits information;

• Beneficiary work incentives information;

• Services to which BPAO projects refer beneficiaries; and

• Cumulative BPAO activities performed.

Number of Respondents: 500,000.

Frequency of Response: 1.

Average Burden Per Response: 30 minutes.

Estimated Annual Burden: 250,000 hours.

(SSA Address)—Social Security Administration, DCFAM, Attn: Frederick W. Brickenkamp, 1-A-21 Operations Bldg., 6401 Security Blvd., Baltimore, MD 21235.

(OMB Address)—Office of Management and Budget, OIRA, Attn: Desk Officer for SSA, New Executive Office Building, Room 10230, 725 17th St., NW, Washington, D.C. 20503.

Dated: October 24, 2000.
Frederick W. Brickenkamp,
Reports Clearance Officer, Social Security Administration.

[FR Doc. 00-27711 Filed 10-27-00; 8:45 am]

BILLING CODE 4191-02-P